DEPARTMENT OF COMMERCE

International Trade Administration

[A-570-847]

Persulfates From the People's Republic of China: Continuation of Antidumping Duty Order

AGENCY: Enforcement and Compliance, International Trade Administration, Department of Commerce.

SUMMARY: As a result of the determinations by the Department of Commerce (Commerce) and the International Trade Commission (ITC) that revocation of the antidumping duty (AD) order on persulfates from the People's Republic of China (China) would likely lead to a continuation or recurrence of dumping and material injury to an industry in the United States, Commerce is publishing a notice of continuation of the AD duty order.

DATES: Applicable August 28, 2019.

FOR FURTHER INFORMATION CONTACT: Thomas Hanna or Howard Smith, AD/CVD Operations, Office IV, Enforcement and Compliance, International Trade Administration, U.S. Department of Commerce, 1401 Constitution Avenue NW, Washington, DC 20230; telephone: (202) 482-0835 or (202) 482-5193, respectively.

SUPPLEMENTARY INFORMATION:

Background

On July 7, 1997, Commerce published in the Federal Register the AD order on persulfates from China.¹ On February 5, 2019, Commerce published the notice of initiation of this sunset review of the AD order on persulfates from China pursuant to section 751(c) of the Tariff Act of 1930, as amended (the Act).² Commerce conducted this sunset review on an expedited basis, pursuant to section 751(c)(3)(B) of the Act and 19 CFR 351.218(e)(1)(ii)(C)(2) because it received a complete timely and adequate response from a domestic interested party ³ but no substantive responses from respondent interested parties. As a result of its review, Commerce determined pursuant to sections 751(c)(1) and 752(c) of the Act, that revocation of the Order would likely lead to a continuation or recurrence of dumping. Commerce also notified the ITC of the magnitude of the dumping margins likely to prevail should the Order be revoked.⁴ On August 21, 2019, the ITC published its determination, pursuant to section 751(c) of the Act, that revocation of the AD duty order on persulfates from China would be likely to lead to continuation or recurrence of material injury to an industry in the United States within a reasonably foreseeable time.⁵

¹ See Notice of Antidumping Duty Order and Amended Final Determination of Sales at Less Than Fair Value: Persulfates from the People's Republic of China, 62 FR 36259 (July 7, 1997) (Order), amended by Notice of Amended Antidumping Duty Order: Persulfates from the People's Republic of China, 62 FR 39212 (July 22, 1997).

² See Initiation of Five-Year (Sunset) Review, 84 FR 1704 (February 5, 2019).

³ See PeroxyChem's Letter, “Persulfates from the People's Republic of China—Five-Year (4th Sunset) Review of Antidumping Duty Order—Notice of Intention to Participate,” dated February 19; see also PeroxyChem's Letter, “Persulfates from the People's Republic of China—Domestic Industry's Substantive Response,” dated March 6, 2019.

⁴ See Persulfates from the People's Republic of China: Final Results of the Expedited Fourth Sunset Review of the Antidumping Duty Order, 84 FR 27087 (June 11, 2019).

⁵ See Persulfates from China, Investigation No. 731-TA-749, 84 FR 43615 (August 21, 2019).

Scope of the Order

The products covered by the order are persulfates, including ammonium, potassium, and sodium persulfates. The chemical formulas for these persulfates are, respectively, (NH4)2S2O8, K2S2O8, and Na2S2O8. Potassium persulfates are currently classifiable under subheading 2833.40.10 of the Harmonized Tariff Schedule of the United States (HTSUS). Sodium persulfates are classifiable under HTSUS subheading 2833.40.20. Ammonium and other persulfates are classifiable under HTSUS subheadings 2833.40.50 and 2833.40.60. Although the HTSUS subheadings are provided for convenience and customs purposes, the written description of the scope of the order is dispositive.

Continuation of the Order

As a result of the determinations by Commerce and the ITC that revocation of the Order would likely lead to a continuation or recurrence of dumping and material injury to an industry in the United States, pursuant to section 751(d)(2) of the Act and 19 CFR 351.218(a), Commerce hereby orders the continuation of the AD order on persulfates from China. U.S. Customs and Border Protection will continue to collect AD cash deposits at the rates in effect at the time of entry for all imports of subject merchandise. The effective date of the continuation of the Order will be the date of publication in the Federal Register of this notice of continuation. Pursuant to section 751(c)(2) of the Act and 19 CFR 351.218(c)(2), Commerce intends to initiate the next sunset review of the Order not later than 30 days prior to the fifth anniversary of the effective date of continuation.

Notification to Interested Parties

This five-year sunset review and this notice are in accordance with section 751(c) and 751(d)(2) of the Act and published pursuant to section 777(i)(1) of the Act and 19 CFR 351.218(f)(4).

Dated: August 22, 2019.
Christian Marsh,
Deputy Assistant Secretary for Enforcement and Compliance.

[FR Doc. 2019-18558 Filed 8-27-19; 8:45 am]

BILLING CODE 3510-DS-P